DEPARTMENT OF THE INTERIOR

National Park Service

[NPS-WASO-NAGPRA-NPS0036836; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of human remains and associated funerary objects and has determined that there is no cultural affiliation between the human remains and associated funerary objects and any Indian Tribe. The human remains and associated funerary objects were removed from Alameda, Contra Costa, San Francisco, San Mateo, Santa Clara, and Santa Cruz Counties, CA.

DATES: Disposition of the human remains and associated funerary objects in this notice may occur on or after November 30, 2023.

ADDRESSES: Alexandra Lucas, Repatriation Coordinator, Government and Community Relations (Chancellor's Office), University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley. The National Park Service is not responsible for the determinations in this notice. Additional information on the determinations in this notice, including the results of consultation, can be found in the inventory or related records held by the University of California, Berkeley.

Description

Human remains representing, at minimum, 2,148 individuals were removed from Alameda County, CA, between 1876 and 2001, and donated or appropriated into the University of California, Berkeley campus anthropology museum (Phoebe A. Hearst Museum of Anthropology) by numerous individuals. The human remains were removed from sites CA-Ala-12, CA-Ala-13,CA-Ala-17, CA-Ala-20, CA-Ala-23, CA-Ala-28 CA-Ala-307, CA-Ala-308, CA-Ala-309, CA-Ala-316, CA-Ala-317, CA-Ala-324, CA-Ala-328, CA-Ala-329, CA-Ala-330, CA-Ala-42, CA-Ala-47, CA-Ala-48, CA-Ala-50, CA-Ala-52, CA-Ala-53, CA-Ala-55, and unknown sites. The 12,086 lots of associated funerary objects include awls, baked clay and baked clay objects, baskets, beads, bifaces, blades, bone tools, bone tubes, botanical samples, charcoal samples, charmstones, choppers, clubs, cooking stones, core tools, cores, drills, faunal remains, fishhooks, flakers, flakes, fleshers, ground stone, gun barrel, hammerstones, harpoons, historic refuse, knives, labrets (jewelry worn on the head), manos, mats (floor coverings), metates, mineral and rock samples, mortars, needles, net weights, ornaments, painting supplies, pendants, pestles, pins (fasteners), pipes, projectile points, saws, scrapers, shell samples, sinkers, soil samples, spearheads), stone tools, strigils (sweat scrapers), string, wedges, whistles, worked bone, worked shell, and worked stone.

Human remains representing, at minimum, 1,880 individuals were removed from Contra Costa County, CA, between 1904 and 2001, and donated or appropriated into the University of California, Berkeley campus anthropology museum (Phoebe A. Hearst Museum of Anthropology) by numerous individuals. The human remains were removed from sites CA-CCo-1, CA-CCo-124, CA-CCo-126, CA-CCo-13, CA-CCo-133, CA-CCo-135, CA-CCo-137, CA-CCo-138, CA-CCo-139, CA-CCo-14, CA-CCo-141, CA-CCo-142, CA-CCo-146, CA-CCo-148, CA-CCo-15, CA-CCo-150, CA-CCo-151, CA-CCo-18, CA-CCo-20, CA-CCo-224, CA-CCo-225, CA-CCo-227, CA-CCo-229, CA-CCo-241, CA-CCo-242, CA-CCo-25, CA-CCo-250, CA-CCo-256, CA-CCo-259, CA-CCo-261, CA-CCo-267, CA-CCo-271, CA-CCo-272, CA-CCo-274, CA-CA-CCo-290, CA-CCo-295, CA-CCo-298, CA-CCo-300, CA-CCo-301, CA-CCo-306, CA-CCo-307, CA-CCo-4, CA-CCo-5, and unknown sites. The 11,154 lots of associated funerary objects include abraders, acorn anvils, awls, baked clay and baked clay objects, bangles, basketry, beads, blades, bone tools, bone tubes, botanical samples, charcoal samples, charmstones, choppers, cooking stones, cores, drills, ear spools, faunal remains, fishhooks, flakers, flakes, gorge hooks, ground stone, hammerstones, harpoons, historic refuse, knives, labrets, level bags, manos, mineral and rock samples, mortars, needles, net weights, ornaments, painting supplies, pendants, pestles, pins, pipes, projectile points, saws, scrapers, shell samples, sinkers, soil samples, spearheads, spoons, stone tools, strigils (sweat scrapers), string, wedges, whistles, worked bone, worked shell, and worked stone.

Human remains representing, at minimum, 53 individuals were removed from San Francisco County, CA, between 1872 and 1985, and donated or appropriated into the University of California, Berkeley campus anthropology museum (Phoebe A. Hearst Museum of Anthropology) by numerous individuals. The human remains were removed from sites CA-SFr-17, CA-SFr-7, and unknown sites. The 131 lots of associated funerary objects include awls, beads, bone tools, bone tubes, charmstones, crucifix, faunal remains, flakes, hammerstones, mortars, ornaments, pendants, pestles, pipes, projectile points, shell samples, sinkers, whistles, worked bone, and worked stone.

Human remains representing, at minimum, 119 individuals were removed from San Mateo County, CA, between 1872 and 1975, and donated or appropriated into the University of California, Berkeley campus anthropology museum (Phoebe A. Hearst Museum of Anthropology) by numerous individuals. The human remains were removed from sites CA-SMa-151, CA-SMa-22, CA-SMa-23, CA-SMa-3, CA-SMa-4, CA-SMa-434, CA-SMa-88, CA-SMa-90, and unknown sites. The 1,157 lots of associated funerary objects include acorn anvils, awls, baked clay and baked clay objects, beads, blades, bone tools, botanical samples, charcoal samples, charmstones, cores, faunal remains, flakers, flakes, ground stone, hammerstones, harpoons, historic refuse, manos, metates, mineral and rock samples, mortars, painting supplies, pendants, pestles, projectile points, scrapers, shell samples, sinkers, soil samples, stone tools, whistles, worked bone, and worked stone.

Human remains representing, at minimum, 225 individuals were removed from Santa Clara County, CA, prior to 1881 and through to 1958, and donated or appropriated into the University of California, Berkeley campus anthropology museum (Phoebe A. Hearst Museum of Anthropology) by numerous individuals. The human remains were removed from sites CA-SCl-1, CA-SCl-20, CA-SCl-38, CA-SCl-49, and unknown sites. The 422 lots of associated funerary objects are acorn anvils, awls, beads, blades, charmstones, cores, faunal remains, fishhooks, flakes, hammerstones, handles, historic refuse, mineral and rock samples, mortars, needles, ornaments, painting supplies, pendants, pestles, pins, projectile points, saws, scrapers, shell samples, soil samples, spoons, strigils, wedges, whistles, worked bone, and worked stone.

Human remains representing, at minimum, 15 individuals were removed from Santa Cruz County, CA, between 1880 and 1956, and donated or appropriated into the University of California, Berkeley campus anthropology museum (Phoebe A. Hearst Museum of Anthropology) by numerous individuals. The human remains were removed sites CA-SCr-1, CA-SCr-25, CA-SCr-41, CA-SCr-52, and unknown sites. The 43 lots of associated funerary objects are beads, botanical samples, cores, faunal remains, flakes, gorge hooks, ground stone, knives, mortars, ornaments, pebbles, pestles, scrapers, shell samples, soil samples, whistles, and worked bone.

Aboriginal Land

The human remains and associated funerary objects in this notice were removed from known geographic locations. These locations are the aboriginal lands of one or more Indian Tribes. These locations are also the aboriginal lands of the Ohlone/Costanoan State recognized tribes. The following information was used to identify the aboriginal land: California Native American Heritage Commission Native American Contact List for implementing AB275 (dated: 07/20/2023), Unratified Treaty E “Treaty at Dent's and Valentine's Crossing (May 28, 1851)”, and Unratified Treaty M “Treaty of Camp Frémont (Mar. 19, 1851).”

Determinations

Pursuant to NAGPRA and its implementing regulations, and after consultation with the appropriate Indian Tribes, the University of California, Berkeley has determined that:

• The human remains described in this notice represent the physical remains of 4,440 individuals of Native American ancestry.

• The 24,993 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Buena Vista Rancheria of Me-Wuk Indians of California; California Valley Miwok Tribe, California; Chicken Ranch Rancheria of Me-Wuk Indians of California; Guidiville Rancheria of California; Ione Band of Miwok Indians of California; Jackson Band of Miwuk Indians; Middletown Rancheria of Pomo Indians of California; Picayune Rancheria of Chukchansi Indians of California; Santa Rosa Indian Community of the Santa Rosa Rancheria, California; Shingle Springs Band of Miwok Indians, Shingle Springs Rancheria (Verona Tract), California; Table Mountain Rancheria; Tule River Indian Tribe of the Tule River Reservation, California; Tuolumne Band of Me-Wuk Indians of the Tuolumne Rancheria of California; and the Wilton Rancheria, California.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after November 30, 2023. If competing requests for disposition are received, the University of California, Berkeley must determine the most appropriate requestor prior to disposition. Requests for joint disposition of the human remains and associated funerary objects are considered a single request and not competing requests. The University of California, Berkeley is responsible for sending a copy of this notice to the Indian Tribes identified in this notice.

Authority: Native American Graves Protection and Repatriation Act, 25 U.S.C. 3003, and the implementing regulations, 43 CFR 10.9 and 10.11.

Dated: October 20, 2023.
Melanie O'Brien,
Manager, National NAGPRA Program.

[FR Doc. 2023-23975 Filed 10-30-23; 8:45 am]

BILLING CODE 4312-52-P